DEPARTMENT OF TRANSPORTATION

Federal Railroad Administration

49 CFR Part 212

[Docket No. FRA-2025-0080]

RIN 2130-AD07

Administrative Updates to the Federal Railroad Administration's State Safety Participation Regulations

AGENCY: Federal Railroad Administration (FRA), U.S. Department of Transportation (DOT).

ACTION: Final rule.

SUMMARY: This rule makes administrative updates to FRA's state safety participation regulations, including updating addresses in those regulations.

DATES: Effective July 1, 2025.

FOR FURTHER INFORMATION CONTACT: Veronica Chittim, Senior Attorney, Office of Safety Law, Office of the Chief Counsel, FRA, 1200 New Jersey Avenue SE, Washington, DC 20590 (telephone 202-480-3410), veronica.chittim@dot.gov; or Lucinda Henriksen, Senior Advisor, Office of Railroad Safety, FRA (telephone 202-657-2842), lucinda.henriksen@dot.gov.

SUPPLEMENTARY INFORMATION:

I. Background

Consistent with the deregulatory agenda of President Donald J. Trump and Secretary of Transportation Sean P. Duffy, which seeks to unleash America's economic prosperity without compromising transportation safety, and as described in more detail below, this rule is making miscellaneous, administrative updates to its state safety participation regulations in 49 CFR part 212. These changes include updating addresses that are no longer valid in part 212.

II. Section-by-Section Analysis

Part 212

§ 212.3 Definitions

FRA is amending § 212.3(b) to have the Associate Administrator mean the “Associate Administrator for Railroad Safety and Chief Safety Officer.” FRA is updating § 212.3(d) to remove the individual references to discrete safety laws, which are obsolete, and instead to refer to the definition of Federal railroad safety laws in § 209.3. FRA is removing paragraph (g) as unnecessary.

§ 212.105 Agreements

FRA is revising paragraph (d)(2) to correct the spelling of the word “delegation” and to make one editorial revision (change the word “particular” to “specific”). FRA is removing existing paragraph (e)(1)(iii) which requires a State's request for an FRA agreement to allow that State to participate in FRA investigative and surveillance activities to contain an opinion of counsel that State funds may be used for purposes of participation in the FRA activities. FRA is removing this requirement because, as a matter of current practice, State participation agreements do not currently contain such language.

§ 212.109 Joint Planning of Inspections

FRA is removing and reserving § 212.109. This section was applicable in the early days of the FRA State participation program, but is not currently applicable as FRA does not fund all State inspector activities.

§ 212.113 Program Termination

FRA is revising paragraphs (a) and (b) to make editorial corrections (change the phrase “thirty (30) days notice” to “30-days' notice”).

§ 212.115 Enforcement Actions

FRA is amending § 212.115(c) to update references from “FRA Regional Director for Railroad Safety for the FRA region in which the State is located” to “FRA Staff Director for the relevant technical discipline.” FRA will maintain a listing on its website of email addresses for each technical discipline referenced in this rule (e.g., Track and Structures, Motive Power and Equipment) to facilitate communication and submission of required documents to FRA. FRA is removing a reference in § 212.115(c)(2)(ii) to “the Enforcement Division” of the “Office of Chief Counsel,” as that is an outdated reference. FRA is also removing the mailing address for the Office of the Chief Counsel and adding the email address FRALegal@dot.gov.

§ 212.201 General Qualifications of State Inspection Personnel

FRA is revising paragraphs (a) through (d) to remove the references to “compliance inspector” and to otherwise streamline the language. First, in paragraph (a) FRA is replacing the reference to “compliance inspectors” with the term “journeyman inspector,” which is commonly understood to refer to a fully trained, qualified, and experienced railroad safety inspector. In paragraphs (b) through (d), FRA is removing the references to “compliance inspector” and “apprentice inspector” to streamline the language of each paragraph. No substantive change is intended.

§ 212.203 Track Inspector

FRA is revising paragraph (a) to remove the phrases “the institution of” and “to promote compliance.” These are editorial revisions intended to simplify the regulatory language and the revisions make no substantive changes to this paragraph. FRA is also making an editorial correction to paragraph (b) and adding a reference to FRA's Railroad Workplace Safety Regulations (49 CFR part 214) in paragraph (c) as FRA issued that regulation since part 212 was last updated.

§ 212.207 Signal and Train Control (S&TC) Inspector

FRA is revising the title of § 212.207 and paragraphs (a), (b), and (c) to provide a shorthand reference to the phrase “signal and train control” (i.e., S&TC). Consistent with the edits to § 212.203, FRA is also revising paragraph (a) to remove the phrases “the institution of” and “to promote compliance.” These are editorial revisions intended to simplify the regulatory language and the revisions make no substantive changes to this paragraph.

§ 212.209 Train Control Inspector

FRA is removing and reserving this section because it is unnecessary given § 212.207.

§ 212.211 Apprentice S&TC Inspector

Consistent with the edits in § 212.207, FRA is revising the title of § 212.211 and paragraph (a) to provide a shorthand reference to the phrase “signal and train control.”

§ 212.213 Motive Power and Equipment (MP&E) Inspector

Consistent with the edits in § 212.203, FRA is revising paragraph (a) to remove the phrases “the institution of” and “to promote compliance.” FRA is also revising paragraph (a) to include a reference to 49 CFR part 224 (Reflectorization of Rail Freight Rolling Stock) as FRA issued that regulation since part 212 was last updated.

§ 212.215 Locomotive Inspector

FRA is removing and reserving this section because locomotive inspectors are considered MP&E inspectors under § 212.213 and as such, this section is unnecessary.

§ 212.217 Car Inspector

FRA is removing and reserving this section because car inspectors are considered MP&E inspectors under § 212.213 and as such, this section is unnecessary.

§ 212.221 Operating Practices Inspector

Consistent with the edits in §§ 212.203 and 212.213, FRA is revising paragraph (a) to remove the phrases “the institution of” and “to promote compliance.” FRA is also revising paragraph (a) to include references to parts 240 and 242 as FRA issued those regulations since part 212 was last updated.

§ 212.223 Operating Practices Compliance Inspector

FRA is removing and reserving this section because the term “compliance inspector” is outdated and operating practices inspectors are addressed in § 212.221.

§ 212.227 Hazardous Materials Inspector

Consistent with the edits in §§ 212.203, 212.213, and 212.221, FRA is revising paragraph (a) to remove the phrases “the institution of” and “to promote compliance.”

§ 212.231 Highway-Rail Grade Crossing Inspector

To reflect the RRS reorganization, FRA is revising the title of this section and all references to “highway-rail grade crossing inspector” in the section to “grade crossing and trespasser outreach inspector.” Consistent with the edits in §§ 212.203, 212.213, 212.221, and 212.227, FRA is also revising paragraph (a) to remove the phrases “the institution of” and “to promote compliance” and consistent with the changes to § 212.207, FRA is revising paragraph (d) to refer to a “State S&TC inspector.”

§ 212.233 Apprentice Highway-Rail Grade Crossing Inspector

Consistent with the edits to § 212.231, FRA is revising the title of this section to “Apprentice grade crossing and trespasser inspector” and is revising the inspector reference in paragraph (a) to be consistent with § 212.231.

III. Public Participation

Under the Administrative Procedure Act (APA), an agency may waive the normal notice and comment procedures if the action is a rule of agency organization, procedure, or practice. 5 U.S.C. 553(b)(A). Additionally, under the APA, an agency may waive notice and comment procedures when the agency for good cause finds that notice and public procedure are impracticable, unnecessary, or contrary to the public interest. 5 U.S.C. 553(b)(B). Since this final rule merely makes miscellaneous, administrative updates to the CFR, such as updating web addresses, it would not benefit from public comment, and notice and comment is not necessary.

IV. Regulatory Impact and Notices

A. Executive Order (E.O.) 12866 (Regulatory Planning and Review) and DOT Regulatory Policies and Procedures

FRA has evaluated this final rule in accordance with E.O. 12866, Regulatory Planning and Review (58 FR 51735, Oct. 4, 1993), and DOT Order 2100.6B, Policies and Procedures for Rulemaking (Mar. 10, 2025). The Office of Information and Regulatory Affairs within the Office of Management and Budget (OMB) determined that this final rule is not a significant regulatory action under section 3(f) of E.O. 12866.

Because this final rule makes miscellaneous, administrative changes such as reflecting updated web and email addresses and addressing the RRS reorganization in the CFR, this final rule imparts no additional burdens on regulated entities. Moreover, this rule will provide some qualitative benefits to regulated entities, by clarifying, simplifying, and updating the language of part 212, including removing references to obsolete laws.

B. E.O. 14192 (Unleashing Prosperity Through Deregulation)

E.O. 14192, Unleashing Prosperity Through Deregulation (90 FR 9065, Jan. 31, 2025), requires that for “each new [E.O. 14192 regulatory action] issued, at least ten prior regulations be identified for elimination.” ¹ Implementation guidance for E.O. 14192 issued by OMB (Memorandum M-25-20, March 26, 2025) defines two different types of E.O. 14192 actions: an E.O. 14192 deregulatory action, and an E.O. 14192 regulatory action.²

¹ Executive Office of the President. Executive Order 14192 of January 31, 2025. Unleashing Prosperity Through Deregulation. 90 FR 9065-9067. Feb. 6, 2025.

² Executive Office of the President. Office of Management and Budget. Guidance Implementing Section 3 of Executive Order 14192, Titled “Unleashing Prosperity Through Deregulation.” Memorandum M-25-20. Mar. 26, 2025.

An E.O. 14192 deregulatory action is defined as “an action that has been finalized and has total costs less than zero.” This final rule is expected to have total costs less than zero, and therefore it would be considered an E.O. 14192 deregulatory action.

C. Regulatory Flexibility Act and E.O. 13272

The Regulatory Flexibility Act of 1980 ((RFA), 5 U.S.C. 601 et seq.) and E.O. 13272 (67 FR 53461, Aug. 16, 2002) require an agency to prepare and make available to the public a regulatory flexibility analysis that describes the effect of the rule on small entities (i.e.,small businesses, small organizations, and small governmental jurisdictions). A regulatory flexibility analysis is not required when a rule is exempt from notice and comment rulemaking. FRA has determined that this rule is exempt from notice and comment rulemaking. Therefore, a regulatory flexibility analysis is not required for this rule.

D. Paperwork Reduction Act

There are no new information requirements contained in this final rule and, in accordance with the Paperwork Reduction Act of 1995, 44 U.S.C. 3501 et seq., an information collection submission to the Office of Management and Budget (OMB) is not required. The recordkeeping and reporting requirements already contained in part 212 were approved by OMB on November 1, 2022. The information collection requirements of this rule thereby became effective when they were approved by OMB. The OMB approval number is OMB No. 2130-0509, and OMB approval expires on November 30, 2025.

E. Environmental Assessment

FRA has analyzed this rule for the purposes of the National Environmental Policy Act of 1969 (NEPA). In accordance with 42 U.S.C. 4336 and DOT NEPA Order 5610.1C, FRA has determined that this rule is categorically excluded pursuant to 23 CFR 771.118(c)(4), “[p]lanning and administrative activities that do not involve or lead directly to construction, such as: [p]romulgation of rules, regulations, and directives.” This rulemaking is not anticipated to result in any environmental impacts, and there are no unusual or extraordinary circumstances present in connection with this rulemaking.

F. Federalism Implications

This final rule will not have a substantial effect on the States, on the relationship between the national government and the States, or on the distribution of power and responsibilities among the various levels of government. Thus, in accordance with E.O. 13132, “Federalism” (64 FR 43255, Aug. 10, 1999), preparation of a Federalism Assessment is not warranted.

G. Unfunded Mandates Reform Act of 1995

This final rule will not result in the expenditure, in the aggregate, of $100,000,000 or more, adjusted for inflation, in any one year by State, local, or Indian Tribal governments, or the private sector. Thus, consistent with section 202 of the Unfunded Mandates Reform Act of 1995 (Pub. L. 104-4, 2 U.S.C. 1532), FRA is not required to prepare a written statement detailing the effect of such an expenditure.

H. Energy Impact

E.O. 13211, Actions Concerning Regulations that Significantly Affect Energy Supply, Distribution, or Use (66 FR 28355, May 22, 2001), requires Federal agencies to prepare a Statement of Energy Effects for any “significant energy action.” FRA has evaluated this rule in accordance with E.O. 13211 and determined that this rule is not a “significant energy action” within the meaning of E.O. 13211.

I. E.O. 13175 (Tribal Consultation)

FRA has evaluated this final rule in accordance with the principles and criteria contained in E.O. 13175, Consultation and Coordination with Indian Tribal Governments, (Nov. 6, 2000). The final rule would not have a substantial direct effect on one or more Indian tribes, would not impose substantial direct compliance costs on Indian tribal governments, and would not preempt tribal laws. Therefore, the funding and consultation requirements of E.O. 13175 do not apply, and a tribal summary impact statement is not required.

J. International Trade Impact Assessment

The Trade Agreement Act of 1979 prohibits Federal agencies from engaging in any standards or related activities that create unnecessary obstacles to the foreign commerce of the United States. Legitimate domestic objectives, such as safety, are not considered unnecessary obstacles. The statute also requires consideration of international standards and, where appropriate, that they be the basis for U.S. standards. This rulemaking is purely domestic in nature and is not expected to affect trade opportunities for U.S. firms doing business overseas or for foreign firms doing business in the United States.

List of Subjects in 49 CFR Part 212

Hazardous materials transportation, Intergovernmental relations, Investigations, Railroad safety.

The Final Rule

In consideration of the foregoing, FRA amends part 212 of chapter II, subtitle B of title 49, Code of Federal Regulations as follows:

PART 212—STATE SAFETY PARTICIPATION REGULATIONS

1. The authority citation for part 212 is revised to read as follows:

Authority: 49 U.S.C. 20103, 20105, 20106, and 20113, and 49 CFR 1.89.

2. Amend § 212.3 by

a. Revising paragraphs (b) and (d); and

b. Removing paragraph (g).

The revisions read as follows:

§ 212.3 Definitions.

* * * * *

(b) Associate Administrator means the Associate Administrator for Railroad Safety and Chief Safety Officer.

* * * * *

(d) Federal railroad safety laws has the meaning assigned to that term by 49 CFR 209.3.

* * * * *

3. Revise § 212.105(d)(2) and (e)(1) to read as follows:

§ 212.105 Agreements.

* * * * *

(d) * * *

(2) The delegation is effective only to the extent it is carried out through personnel recognized by the State and FRA (pursuant to subpart C of this part) to be qualified to perform the specific investigative and surveillance activities to which the personnel are assigned; and

* * * * *

(e) * * *

(1) An opinion of the counsel for the State agency stating that:

(i) The agency has jurisdiction over the safety practices of the facilities, equipment, rolling stock, and operations of railroads in that State and whether the agency has jurisdiction over shippers and manufacturers; and

(ii) The agency has the authority and capability to conduct investigative and surveillance activities in connection with the rules, regulations, orders, and standards issued by the Administrator under the Federal railroad safety laws.

* * * * *

§ 212.109 [Removed and Reserved]

4. Remove and reserve § 212.109.

5. Amend § 212.113 by revising paragraphs (a) and (b) introductory text to read as follows:

§ 212.113 Program termination.

(a) A State agency participating in investigative and surveillance activities by agreement or certification shall provide 30-days' notice of its intent to terminate its participation.

(b) The Administrator may, on his or her own initiative, terminate the participation of a State agency if, after at least 30-days' notice and an opportunity for oral hearing under section 553 of title 5 U.S.C., the State does not establish that it has complied and is complying with:

* * * * *

6. Revise § 212.115(c) to read as follows:

§ 212.115 Enforcement actions.

* * * * *

(c)(1) Requests for civil penalty assessments and other administrative actions shall be submitted to the FRA Staff Director for the relevant technical discipline.

(2) Requests for the institution of injunctive actions shall be submitted simultaneously to—

(i) The FRA Staff Director for the relevant technical discipline; and

(ii) The Office of the Chief Counsel, FRA, FRALegal@dot.gov.

7. Revise § 212.201(a), (b), (c), and (d) to read as follows:

§ 212.201 General qualifications of State inspection personnel.

(a) This subpart prescribes the minimum qualification requirements for State railroad safety inspectors, including journeyman and inspector apprentices. A State may establish more stringent or additional requirements for its employees.

(b) An inspector shall be recognized as qualified under this part by the State agency and the Associate Administrator prior to assuming the responsibilities of the position.

(c) Each inspector shall be a bona fide employee of the State agency.

(d) Each inspector shall demonstrate:

* * * * *

8. Revise and republish § 212.203 to read as follows:

§ 212.203 Track inspector.

(a) The track inspector is required, at a minimum, to be able to conduct independent inspections of track structures for the purpose of determining compliance with the Track Safety Standards (49 CFR part 213), to make reports of those inspections, and to recommend enforcement actions when appropriate.

(b) The track inspector is required, at a minimum, to have at least four years of recent experience in track construction or maintenance. A bachelor's degree in engineering or a related technical specialization may be substituted for two of the four years of this experience requirement. Successful completion of the apprentice training program may be substituted for the four years of this experience requirement.

(c) The track inspector shall demonstrate the following specific qualifications:

(1) A comprehensive knowledge of track nomenclature, track inspection techniques, track maintenance methods, and track equipment;

(2) The ability to understand and detect deviations from:

(i) Track maintenance standards accepted in the industry;

(ii) The Track Safety Standards (49 CFR part 213); and

(iii) Railroad Workplace Safety Standards (49 CFR part 214).

(3) Knowledge of operating practices and vehicle/track interaction sufficient to understand the safety significance of deviations and combinations of deviations; and

(4) Specialized knowledge of the requirements of the Track Safety Standards, including the remedial action required to bring defective track into compliance with the standards.

9. Revise § 212.207 to read as follows:

§ 212.207 Signal and train control (S&TC) inspector.

(a) The S&TC inspector is required, at a minimum, to be able to conduct independent inspections of all types of signal and train control systems for the purpose of determining compliance with the Rules, Standards, and Instructions for Railroad Signal Systems (49 CFR part 236), to make reports of those inspections, and to recommend enforcement actions when appropriate.

(b) The S&TC inspector is required, at a minimum, to have at least four years of recent experience in signal construction or maintenance. A bachelor's degree in electrical engineering or a related technical specialization may be substituted for two of the four years of this experience requirement and successful completion of the apprentice training program may be substituted for the four years of this requirement.

(c) The S&TC inspector shall demonstrate the following specific qualifications:

(1) A comprehensive knowledge of S&TC systems, maintenance practices, test and inspection techniques;

(2) The ability to understand and detect deviations from:

(i) S&TC maintenance standards accepted in the industry; and

(ii) The Rules, Standards and Instructions for Railroad Signal Systems (49 CFR part 236).

(3) The ability to examine plans and records, to make inspections of S&TC systems and to determine adequacy of stopping distances from prescribed speeds;

(4) Knowledge of operating practices and signal systems sufficient to understand the safety significance of deviations and combination of deviations; and

(5) Specialized knowledge of the requirements of the Rules, Standards and Instructions for Railroad Signal Systems, including the remedial action required to bring S&TC systems into compliance with the standards.

§ 212.209 [Removed and Reserved]

10. Remove and reserve § 212.209.

11. Revise § 212.211 to read as follows:

§ 212.211 Apprentice S&TC inspector.

(a) The apprentice S&TC inspector must be enrolled in a program of training prescribed by the Associate Administrator leading to qualification as a S&TC inspector. The apprentice inspector may not participate in the investigative and surveillance activities, except as an assistant to a qualified State or FRA inspector while accompanying that qualified inspector.

(b) Prior to being enrolled in the program the apprentice inspector shall demonstrate:

(1) Working knowledge of basic electricity and the ability to use electrical test equipment in direct current and alternating current circuits; and

(2) A basic knowledge of S&TC inspection and maintenance methods and procedures.

12. Revise § 212.213(a) to read as follows:

§ 212.213 Motive power and equipment (MP&E) inspector.

(a) The MP&E inspector is required, at a minimum, to be able to conduct independent inspections of railroad equipment for the purpose of determining compliance with all sections of the Freight Car Safety Standards (49 CFR part 215), Safety Glazing Standards (49 CFR part 223), Reflectorization of Rail Freight Rolling Stock (49 CFR part 224), Locomotive Safety Standards (49 CFR part 229), Safety Appliance Standards (49 CFR part 231), and Power Brake Standards (49 CFR part 232), to make reports of those inspections and to recommend enforcement actions when appropriate.

* * * * *

§ 212.215 [Removed and Reserved]

13. Remove and reserve § 212.215.

§ 212.217 [Removed and Reserved]

14. Remove and reserve § 212.217.

15. Revise § 212.221(a) to read as follows:

§ 212.221 Operating practices inspector.

(a) The operating practices inspector is required, at a minimum, to be able to conduct independent inspections for the purposes of determining compliance with all sections of the Federal operating practice regulations (49 CFR parts 217, 218, 219, 220, 221, 225, 228, 240, and 242) and the Hours of Service Act (45 U.S.C. 61-64b), to make reports of those inspections, and to recommend enforcement actions when appropriate.

* * * * *

§ 212.223 [Removed and Reserved]

16. Remove and reserve § 212.223.

17. Revise § 212.227(a) to read as follows:

§ 212.227 Hazardous materials inspector.

(a) The hazardous materials inspector is required, at a minimum, to be able to conduct independent inspections to determine compliance with all pertinent sections of the Federal hazardous materials regulations (49 CFR parts 171 through 174, and 179), to make reports of those inspections and findings, and to recommend enforcement actions when appropriate.

* * * * *

18. Revise and republish § 212.231 to read as follows:

§ 212.231 Grade crossing and trespasser outreach inspector.

(a) The grade crossing and trespasser outreach inspector is required, at a minimum, to be able to conduct independent inspections of all types of highway-rail grade crossing warning systems for the purpose of determining compliance with Grade Crossing Signal System Safety Rules (49 CFR part 234), to make reports of those inspections, and to recommend enforcement actions when appropriate.

(b) The grade crossing and trespasser outreach inspector is required, at a minimum, to have at least four years of recent experience in highway-rail grade crossing construction or maintenance. A bachelor's degree in engineering or a related technical specialization may be substituted for two of the four years of this experience requirement. Successful completion of an apprentice training program under § 212.233 may be substituted for the four years of this experience requirement.

(c) The grade crossing and trespasser outreach inspector shall demonstrate the following specific qualifications:

(1) A comprehensive knowledge of highway-rail grade crossing nomenclature, inspection techniques, maintenance requirements, and methods;

(2) The ability to understand and detect deviations from:

(i) Grade crossing signal system maintenance, inspection and testing standards accepted in the industry; and

(ii) The Grade Crossing Signal System Safety Rules (49 CFR part 234);

(3) Knowledge of operating practices and highway-rail grade crossing systems sufficient to understand the safety significance of deviations and combinations of deviations from § 212.231(c)(2) (i) and (ii);

(4) Specialized knowledge of the requirements of the Grade Crossing Signal System Safety Rules (49 CFR part 234), including the remedial action required to bring highway-rail grade crossing signal systems into compliance with those Rules;

(5) Specialized knowledge of highway-rail grade crossing standards contained in the Manual on Uniform Traffic Control Devices; and

(6) Knowledge of railroad signal systems sufficient to ensure that highway-rail grade crossing warning systems and inspections of those systems do not adversely affect the safety of railroad signal systems.

(d) A State S&TC inspector qualified under this part and who has demonstrated the ability to understand and detect deviations from the Grade Crossing Signal System Safety Rules (49 CFR part 234) is deemed to meet all requirements of this section and is qualified to conduct independent inspections of all types of highway-rail grade crossing warning systems for the purpose of determining compliance with Grade Crossing Signal System Safety Rules (49 CFR part 234), to make reports of those inspections, and to recommend enforcement actions when appropriate.

19. Revise § 212.233(a) to read as follows:

§ 212.233 Apprentice grade crossing and trespasser inspector.

(a) An apprentice grade crossing and trespasser inspector shall be enrolled in a program of training prescribed by the Associate Administrator for Railroad Safety leading to qualification as a grade crossing and trespasser inspector. The apprentice inspector may not participate in investigative and surveillance activities, except as an assistant to a qualified State or FRA inspector while accompanying that qualified inspector.

* * * * *

Issued in Washington, DC.
Kyle D. Fields,
Chief Counsel.

[FR Doc. 2025-12129 Filed 6-27-25; 4:15 pm]

BILLING CODE 4910-06-P